DEPARTMENT OF THE INTERIOR

Bureau of Land Management

[ID-090-1610-PG; DBG-0200001]

Notice of Public Meeting: Resource Advisory Council to the Lower Snake River District, Bureau of Land Management, Department of the Interior

AGENCY: Bureau of Land Management, Department of the Interior.

ACTION: Notice of public meeting.

SUMMARY: In accordance with the Federal Land Policy and Management Act (FLPMA) and the Federal Advisory Committee Act of 1972 (FACA), the U.S. Department of the Interior, Bureau of Land Management (BLM) Lower Snake River District Resource Advisory Council (RAC), will meet as indicated below.

DATES: The meeting will be held December 4, 2002, at the Lower Snake River District Office, located at 3948 Development Avenue, Boise, Idaho, beginning at 9 a.m. The public comment periods will be held after each topic. The meeting is expected to adjourn at 4 p.m.

FOR FURTHER INFORMATION CONTACT: MJ Byrne, Public Affairs Officer and RAC Coordinator, Lower Snake River District, 3948 Development Ave., Boise, ID 83705, Telephone (208) 384-3393.

SUPPLEMENTARY INFORMATION: The 15-member Council advises the Secretary of the Interior, through the Bureau of Land Management, on a variety of planning and management issues associated with public land management in southwestern Idaho. At this meeting, the following topics for discussion will include:

• Subgroup reports on Sage Grouse Habitat Management, OHV Initiative, River Recreation and Resource Management Plans, and Fire and Fuels Management;

• RAC Members will discuss what they heard from the Secretary of Interior, the BLM Director, RAC Chairpersons and other RAC Members during the November 20 tele-video conference regarding issues and priorities for the RAC's to address across the nation;

• The LSRD RAC Chair, Don Weilmunster will provide a report to the Members of what he learned while attending the National RAC Conference in Phoenix, November 18-20, 2002;

• RAC Members will discuss how this direction from Washington, DC can be incorporated into their workplans for each sub-group for fiscal year 2003;

• An update will be given on the two Resource Management Plans under development in the District, and

• Each Field Office Manager will provide a brief update on current activities and issues in each of their field office areas.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

Dated: November 6, 2002.
Howard Hedrick,
Associate District Manager.

[FR Doc. 02-28872 Filed 11-13-02; 8:45 am]

BILLING CODE 4310-GG-P